DEPARTMENT OF DEFENSE

Department of the Army, Corps of Engineers

Table Rock Lake Oversight Committee Meetings Notice

AGENCY: Department of the Army, U.S. Army Corps of Engineers, DoD.

ACTION: Notice of revised dates for open committee meetings and request for comments.

SUMMARY: The Department of Defense (DoD) published a notice on April 17, 2020 that announced the third meeting of the Table Rock Lake Oversight Committee, which was to take place on Wednesday, May 6, 2020 from 8:00 a.m. to 5:00 p.m., had been cancelled due to concerns with COVID-19/State of Missouri “Stay-at-Home” order. The notice stated the meeting would be re-scheduled at a later date, along with meeting four. DoD is publishing this notice to announce the revised schedule for Meeting 3 of the Federal advisory committee meetings of the Table Rock Lake Oversight Committee (TRLOC).

DATES: The meeting will be held on: Meeting 3: Thursday, July 16, 2020, 8 a.m. to 5 p.m. This meeting will be held virtually.

ADDRESSES: U.S. Army Corps of Engineers, Little Rock District, ATTN: Table Rock Lake Oversight Committee (Operations Division), P.O. Box 867, Little Rock, Arkansas, 72203-0867.

FOR FURTHER INFORMATION CONTACT: Ms. Rebecca Shortt, Alternate Designated Federal Officer (ADFO) for the Committee, in writing at U.S. Army Corps of Engineers, Little Rock District, Operations Division, P.O. Box 867 Little Rock, Arkansas, 72203-0867, or by email at CESWL-TRLOC-DFO@usace.army.mil.

SUPPLEMENTARY INFORMATION: These meetings are being held pursuant to the implementation of Section 1185(c) of the Water Resources Development Act of 2016 (130 Stat. 1680) and under the provisions of the Federal Advisory Committee Act (FACA) (Pub. L. 92-463, 86 Stat. 770.), the Sunshine in the Government Act of 1976 (U.S.C. 552b, as amended) and 41 Code of the Federal Regulations (CFR 102- 3.150).

Due to circumstances beyond the control of the Department of Defense and the Designated Federal Officer for the Table Rock Lake Oversight Council, the Table Rock Lake Oversight Council was unable to provide public notification required by 41 CFR 102-3.150(a) concerning its meeting on July 16, 2020. Accordingly, the Advisory Committee Management Officer for the Department of Defense, pursuant to 41 CFR 102-3.150(b), waives the 15-calendar day notification requirement.

Purpose of the Meetings: The TRLOC is an independent Federal advisory committee established as directed by Section 1185(c) of the Water Resources Development Act of 2016 (130 Stat. 1680). The committee is advisory in nature only with duties to include providing information and recommendations to the U.S. Army Corps of Engineers, Little Rock District Engineer on revisions to the Table Rock Lake Master Plan and Shoreline Management Plan. The TRLOC may also, at the discretion of the District Engineer, review any permit to be issued under the provisions of the existing master plan and shoreline management plan until any approved revisions are finalized and become part of the formal governing documents.

Proposed Agenda: Agenda—Meeting 3

I. Call to Order, DFO and TRLOC Chairperson

II. Public Comment Session

III. Presentations of Requested Material Related to Draft Master and Shoreline Management Plans

IV. Corps Presentation on Commander Recommended Review of Permit

V. Committee Discussion/Questions/Recommendations on Master Plan

VI. Committee Discussion/Questions/Recommendations on Shoreline Management Plan

VII. Committee Discussion/Questions/Recommendations on Commander Recommended Review of Permit

VIII. Adjournment

Accessibility to the Meeting: This meeting will be held entirely virtually, and all public access and participation will be virtual in nature. The information needed to access the virtual meeting will be posted on the TRLOC website https://go.usa.gov/xwRbv July 9, one week prior to the meeting. The most up-to-date information and instructions about the virtual meeting will also be posted there.

Written Comments and Statements: Pursuant to 41 CFR 102-3.1050) and 102-3.140 and section 10(a)(3) of the Federal Advisory Committee Act, the public or interested organizations may submit written comments or statements to the Committee, in response to the stated agenda of the open meeting or in regard to the Committee's mission in general. Written comments or statements should be submitted via email to CESWL-TableRockSMP_FAC@usace.army.mil or by mail to the US Army Corps of Engineers, Table Rock Lake Oversight Committee, P.O. Box 867, Little Rock, Arkansas 72203-0867. Each page of the comment or statement must include the author's name, title or affiliation, address, and daytime phone number. Written comments or statements being submitted in response to the agenda set forth in this notice must be received by the Designated Federal Officer or Alternate Designated Federal Officer at least seven (7) business days prior to the third meeting to be considered by the Committee. The Designated Federal Officer/Alternate Designated Federal Officer and the Committee Chair will review all timely submitted written comments or statements and ensure the comments are provided to all members of the Committee before the meeting. Written comments or statements received after this date will not be provided to the Committee, as their final recommendations will be submitted to the District Engineer for consideration during the third meeting. Please note that because the TRLOC operates under the provisions of the Federal Advisory Committee Act, as amended, all written comments will be treated as public documents and will be made available for public inspection.

Pursuant to 41 CFR 102-3.140d, the Committee is not obligated to allow a member of the public to speak or otherwise address the Committee during the meeting. Members of the public will be permitted to make verbal comments during the Committee meeting only at the time and in the manner described below. A three (3) hour period will be provided near the beginning of Meeting 3 for virtual verbal comments. In the interest of time and for allowing everyone to be heard, individuals will be given a maximum of two (2) minutes to address their comments to the TRLOC. Individuals will not be allowed to transfer time to other individuals. A court reporter will be in attendance to record the TRLOC meetings.

David B. Olson,
U.S. Army Corps of Engineers Federal Register Liaison Officer.

[FR Doc. 2020-14344 Filed 7-2-20; 8:45 am]

BILLING CODE 3720-58-P